DEPARTMENT OF COMMERCE

International Trade Administration

[A-570-001]

Potassium Permanganate From the People's Republic of China: Final Results of Antidumping Duty Administrative Review; 2013

AGENCY: Enforcement and Compliance, International Trade Administration, Department of Commerce.

SUMMARY: In response to a request by Pacific Accelerator Limited (“PAL”), the Department of Commerce (the “Department”) is conducting an administrative review of the antidumping duty order on potassium permanganate from the People's Republic of China (“PRC”) for the period of review (“POR”) January 1, 2013, through December 31, 2013.¹ The Department has determined that PAL had no entries of subject merchandise during the POR.

¹ See Antidumping Duty Order; Potassium Permanganate from the People's Republic of China, 49 FR 3897 (January 31, 1984).

DATES: Effective Date: August 19, 2015.

FOR FURTHER INFORMATION CONTACT: Paul Walker, AD/CVD Operations, Office V, Enforcement and Compliance, International Trade Administration, Department of Commerce, 14th Street and Constitution Avenue NW., Washington, DC 20230; telephone: (202) 482-0413.

SUPPLEMENTARY INFORMATION:

Scope of the Order

Imports covered by the order are shipments of potassium permanganate, an inorganic chemical produced in free-flowing, technical, and pharmaceutical grades. Potassium permanganate is currently classifiable under item 2841.61.00 of the Harmonized Tariff Schedule of the United States (“HTSUS”). Although the HTSUS item number is provided for convenience and customs purposes, the written description of the merchandise remains dispositive.

Background

On February 10, 2015, the Department published the Preliminary Results of this administrative review.² On March 12, 2015, PAL submitted a case brief.³ On March 17, 2015, the petitioner, Carus Corporation (“Carus”) submitted a rebuttal brief.⁴ On June 2, 2015, we extended the final results to August 10, 2015.⁵

² See Potassium Permanganate from the People's Republic of China: Preliminary Results of Antidumping Duty Administrative Review; 2013, 80 FR 7413 (February 10, 2015) (“Preliminary Results”).

³ See PAL's March 12, 2015 submission.

⁴ See Petitioner's March 17, 2015 submission.

⁵ See Memorandum to Christian Marsh, Deputy Assistant Secretary, through James Doyle, Office Director, from Paul Walker, Case Analyst, “Potassium Permanganate from the People's Republic of China: Extension of Deadline for the Final Results of Antidumping Duty Administrative Review,” dated June 2, 2015.

Final Determination of No Reviewable Transactions

As noted in the Preliminary Results, PAL made only one sale of subject merchandise on the last day of the POR, which entered the United States five months after the end of the review period. On July 17, 2014, in response to the Department's Section C Supplemental, PAL reported having no entries during the POR,⁶ which we confirmed with U.S. Customs and Border Protection (CBP).⁷ For these final results, because the record contains no evidence to the contrary, we continue to find that PAL did not have any entries during the POR.

⁶ See PAL's July 17, 2014, submission at 11.

⁷ See Memorandum to the File, from Alexander Montoro, International Trade Compliance Analyst entitled, “CBP Data Query Results,” dated February 2, 2015.

Consistent with the Department's assessment practice in non-market economy (“NME”) cases,⁸ where a respondent has no entries during the period of review, it is appropriate not to rescind the review in part in this circumstance but, rather, to complete the review with respect to that respondent and issue appropriate instructions to CBP based on the final results of the review.⁹ Therefore, the Department finds that it is appropriate not to rescind the review in these circumstances, but rather to complete the review with respect to PAL and issue appropriate instructions to CBP based on the final results of the review.¹⁰

⁸ See Non-Market Economy Antidumping Proceedings: Assessment of Antidumping Duties, 76 FR 65694 (October 24, 2011) (“NME Reseller Policy”).

⁹ See, e.g., Wooden Bedroom Furniture from the People's Republic of China: Final Results and Final Rescission, In Part, of Administrative Review and Final Results of New Shipper Review; 2013, 80 FR 34619 (June 17, 2015).

¹⁰ See NME Reseller Policy.

Analysis of Comments Received

All issues raised in the case brief and the rebuttal brief filed in this review are addressed in the Issues and Decision Memorandum.¹¹ The issue parties raised and to which we responded in the Issues and Decision Memorandum follows as an appendix to this notice. The Issues and Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Issues and Decision Memorandum can be accessed directly on the internet at http://www.trade.gov/enforcement/. The signed Issues and Decision Memorandum and the electronic version of the Issues and Decision Memorandum are identical in content.

¹¹ See Memorandum to Ronald K. Lorentzen, Acting Assistant Secretary for Enforcement and Compliance, from Christian Marsh, Deputy Assistant Secretary for Antidumping and Countervailing Duty Operations, “Potassium Permanganate from the People's Republic of China: Issues and Decision Memorandum for the Final Results,” dated concurrently with this notice (“Issues and Decision Memorandum”).

Final Results of Review

Because record evidence indicates that PAL, the only company under review, had no reviewable transactions during the POR, and consistent with our assessment practice, it is appropriate not to rescind the review.¹² Therefore, for these final results, we have completed the review with respect to PAL and continue to find that it had no reviewable transactions during the POR. We note that PAL does not have an individual rate, or a separate rate, and has never been reviewed in any other prior segment. Thus, PAL is considered part of the PRC-wide entity, and the PRC-wide entity rate is 128.94 percent.

¹² See NME Reseller Policy.

Assessment Rates

Because the single company under review was found to have no reviewable transactions, we have not calculated any assessment (or cash deposit) rates in this review. The Department intends to issue assessment instructions to CBP 15 days after the publication date of the final results of this review.

Cash Deposit Requirements

The following cash deposit requirements will be effective upon publication of the final results of this review for shipments of the subject merchandise from the PRC entered, or withdrawn from warehouse, for consumption on or after the publication date, as provided by section 751(a)(2)(C) of the Act: (1) For previously investigated or reviewed PRC and non-PRC exporters that received a separate rate in a prior completed segment of this proceeding, the cash deposit rate will continue to be the existing exporter-specific rate; (2) for all PRC exporters of subject merchandise that have not been found to be entitled to a separate rate, the cash deposit rate will be that for the PRC-wide entity, which is 128.94 percent; ¹³ and (3) for all non-PRC exporters of subject merchandise which have not received their own rate, the cash deposit rate will be the rate applicable to the PRC exporter that supplied that non-PRC exporter.

¹³ See Potassium Permanganate from the People's Republic of China; Final Results of Antidumping Duty Administrative Review, 59 FR 26625 (May 23, 1994).

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

Notification to Interested Parties

These final results are issued and published in accordance with sections 751(a)(1) and 777(i)(1) of the Act.

Dated: August 7, 2015.
Ronald K. Lorentzen,
Acting Assistant Secretary for Enforcement and Compliance.

Appendix I

List of Topics Discussed in the Preliminary Decision Memorandum:

1. Summary

2. Background

3. Scope of the Order

4. Comment: Finding of No Reviewable Entries

5. Recommendation

[FR Doc. 2015-20493 Filed 8-18-15; 8:45 am]

BILLING CODE 3510-DS-P